DEPARTMENT OF THE TREASURY

Office of the Comptroller of the Currency

12 CFR Part 6

[Docket ID OCC-2018-0002]

RIN 1557-AE35

FEDERAL RESERVE SYSTEM

12 CFR Parts 208, 217, and 252

[Docket No. R-1604]

RIN 7100 AF-03

Regulatory Capital Rules: Regulatory Capital, Enhanced Supplementary Leverage Ratio Standards for U.S. Global Systemically Important Bank Holding Companies and Certain of Their Subsidiary Insured Depository Institutions; Total Loss-Absorbing Capacity Requirements for U.S. Global Systemically Important Bank Holding Companies

AGENCY: Office of the Comptroller of the Currency, Treasury, and the Board of Governors of the Federal Reserve System.

ACTION: Notice; extension of comment period.

SUMMARY: On April 19, 2018, the Board of Governors of the Federal Reserve System (Board) and the Office of the Comptroller of the Currency (OCC) published in the Federal Register a proposal to modify the enhanced supplementary leverage ratio standards for U.S. top-tier bank holding companies identified as global systemically important bank holding companies, or GSIBs, and certain of their insured depository institution subsidiaries. The proposal also included conforming modifications to the Board's total-loss absorbing capacity and long-term debt rules. The Board and the OCC have determined that an extension of the comment period until June 25, 2018, is appropriate.

DATES: Comments must be received by June 25, 2018.

ADDRESSES: You may submit comments by any of the methods identified in the proposal.

FOR FURTHER INFORMATION CONTACT:

OCC: Venus Fan, Risk Expert (202) 649-6514, Capital and Regulatory Policy; or Carl Kaminski, Special Counsel; Allison Hester-Haddad, Counsel, or Christopher Rafferty, Attorney, Legislative and Regulatory Activities Division, (202) 649-5490 or, for persons who are deaf or hearing impaired, TTY, (202) 649-5597, Office of the Comptroller of the Currency, 400 7th Street SW, Washington, DC 20219.

Board: Constance M. Horsley, Deputy Associate Director, (202) 452-5239; Elizabeth MacDonald, Manager, (202) 475-6316, Holly Kirkpatrick, Supervisory Financial Analyst, (202) 452-2796, or Noah Cuttler, Senior Financial Analyst (202) 912-4678, Capital and Regulatory Policy, Division of Banking Supervision and Regulation; or Benjamin W. McDonough, Assistant General Counsel, (202) 452-2036; David Alexander, Counsel, (202) 452-2877, Greg Frischmann, Counsel, (202) 452-2803, Mark Buresh, Senior Attorney, (202) 452-5270, or Mary Watkins, Attorney, (202) 452-3722, Legal Division, Board of Governors of the Federal Reserve System, 20th and C Streets NW, Washington, DC 20551. For the hearing impaired only, Telecommunication Device for the Deaf (TDD), (202) 263-4869.

SUPPLEMENTARY INFORMATION: On April 19, 2018, the Board of Governors of the Federal Reserve System (Board) and the Office of the Comptroller of the Currency (OCC) published in the Federal Register a proposal to amend the enhanced supplementary leverage ratio (eSLR) standards of the Board and the OCC.¹ The proposal stated that the comment period would close on May 21, 2018. Commenters have requested that the Board and the OCC extend the comment period. An extension of the comment period will provide additional opportunity for the public to consider the proposal and prepare comments, including to address the questions posed by the Board and the OCC. Therefore, the Board and the OCC are extending the end of the comment period for the proposal from May 21, 2018 to June 25, 2018.

¹ 83 FR 17317 (April 19, 2018).

Dated: May 22, 2018
Joseph M. Otting,
Comptroller of the Currency.
By order of the Board of Governors of the Federal Reserve System, acting through the Secretary of the Board under delegated authority, May 17, 2018.
Ann E. Misback,
Secretary of the Board.

[FR Doc. 2018-11336 Filed 5-24-18; 8:45 am]

BILLING CODE 4810-33-6210-01-P